DEPARTMENT OF THE INTERIOR

Fish and Wildlife Service

50 CFR Part 17

[FWS-R9-IA-2008-0121; [96100-1671-0000-B6]

Endangered and Threatened Wildlife and Plants; 90-Day Finding on a Petition to Delist the Tiger (Panthera tigris)

AGENCY: Fish and Wildlife Service, Interior.

ACTION: Notice of 90-day petition finding.

SUMMARY: We, the U.S. Fish and Wildlife Service (Service), announce a 90-day finding on a petition to remove the tiger (Panthera tigris) from the List of Endangered and Threatened Wildlife under the Endangered Species Act of 1973, as amended. We find that the petition does not present substantial scientific or commercial information indicating that removing the species from the List of Endangered and Threatened Wildlife may be warranted. Therefore, we will not initiate a status review in response to this petition. We ask the public to submit to us any new information that becomes available concerning the status of the tiger or threats to it or its habitat at any time. This information will help us monitor and encourage the conservation of this species.

DATES: The finding announced in this document was made on August 12, 2010. You may submit new information concerning this species for our consideration at any time.

ADDRESSES: This finding is available on the Internet at http://www.regulations.gov. Supporting documentation we used in preparing this finding is available for public inspection, by appointment, during normal business hours at the Branch of Foreign Species, Endangered Species Program, U.S. Fish and Wildlife Service, 4401 North Fairfax Drive, Suite 400, Arlington, VA 22203; telephone, 703-358-2171; fax, 703-358-1735. Please submit any new information, materials, comments, or questions concerning this species or this finding to the above address.

FOR FURTHER INFORMATION CONTACT: Janine Van Norman, Chief, Branch of Foreign Species, Endangered Species Program (see ADDRESSES); telephone 703-358-2171; facsimile 703-358-1735. If you use a telecommunications device for the deaf (TDD), call the Federal Information Relay Service (FIRS) at 800-877-8339.

SUPPLEMENTARY INFORMATION:

Background

Section 4(b)(3)(A) of the Endangered Species Act of 1973, as amended (Act) (16 U.S.C. 1531 et seq.), requires that we make a finding on whether a petition to list, delist, or reclassify a species presents substantial scientific or commercial information indicating that the petitioned action may be warranted. We are to base this finding on information provided in the petition, supporting information submitted with the petition, and information otherwise available in our files. To the maximum extent practicable, we are to make this finding within 90 days of our receipt of the petition, and publish our notice of the finding promptly in the Federal Register.

Our standard for substantial scientific or commercial information within the Code of Federal Regulations (CFR) with regard to a 90-day petition finding is “that amount of information that would lead a reasonable person to believe that the measure proposed in the petition may be warranted” (50 CFR 424.14(b)). If we find that substantial scientific or commercial information was presented, we are required to promptly conduct a species status review, which we subsequently summarize in our 12-month finding.

Petition History

On March 5, 2005, we received a petition dated February 25, 2005, from Sarah L. Blaskey of Merrionette Park, Illinois, requesting that the tiger (Panthera tigris), currently listed as endangered under the Act, be removed from the List of Endangered and Threatened Wildlife. The petition clearly identifies itself as such and included the requisite identification information for the petitioner(s), as required in 50 CFR 424.14(a). This finding addresses the petition.

Previous Federal Actions

The tiger has been the subject of several Federal actions (Service 2006, pp. 1-2). In 1970, we proposed four subspecies, Panthera tigris balica (from Indonesia), Panthera tigris sondaica (from Indonesia), Panthera tigris virgata (from Russia, Afghanistan, and Iran), and Panthera tigris sumatrae (from Indonesia), as Appendix A species (“species and subspecies threatened with extinction in other countries”) under the Endangered Species Conservation Act of 1969 (ESCA) (35 FR 6069, April 14, 1970). We finalized this action on June 2, 1970 (35 FR 8491), but actual implementation was delayed in the United States until August 3, 1970, in order to ensure the orderly implementation of these regulations. In 1972, and in recognition of the fact that by listing a species the law applies to subspecies as well, we delisted the four subspecies and listed Panthera tigris under Appendix A of the “U.S. List of Endangered Foreign Fish and Wildlife” (37 FR 6476, March 30, 1972).

Two lists of endangered wildlife were maintained under the ESCA: One for foreign species and one for species native to the United States. Approved on December 28, 1973, the Endangered Species Act of 1973 (16 U.S.C. 1531-1544) superseded the Endangered Species Conservation Act of 1969 (Service 2008d). On January 4, 1974, we categorized the tiger as endangered foreign wildlife under 50 CFR 17.11 (39 FR 1158). On September 26, 1975, the foreign and native lists were replaced by a single “List of Endangered and Threatened Wildlife” (40 FR 44412), on which the tiger remained categorized as endangered. Under the Act, “endangered” means, in part, “any species which is in danger of extinction throughout all or a significant portion of its range.” Under section 9, the Act prohibits unauthorized taking, possession, sale, and transport of endangered species. The Endangered Species Act of 1973 also implemented the Convention on International Trade in Endangered Species of Wild Fauna and Flora (CITES; T.I.A.S. 8249).

The tiger was included under the Convention on International Trade in Endangered Species of Wild Fauna and Flora (CITES) in 1977 (42 FR 10462, February 22, 1977). Panthera tigris altaica (= amurensis) was categorized as an Appendix II species under CITES, while all other subspecies of Panthera tigris were categorized as Appendix I species. Species included in CITES Appendix I are considered to be threatened with extinction, and most international trade of these species for commercial purposes is banned. CITES Appendix II species are not necessarily considered to be threatened with extinction now but may become so unless trade in the species is regulated. On July 10, 1987, the Service announced a negotiating position to recategorize Panthera tigris altaica to Appendix I under CITES, which would mean that all tiger subspecies merited protection under Appendix I (52 FR 26043). The CITES Party countries agreed and adopted a measure that became effective on October 22, 1987. This measure was implemented in the United States effective December 28, 1987 (52 FR 48820). On August 23, 2007, we revised U.S. CITES regulations for 50 CFR parts 10, 13, 17, and 23 covering the period from 1979 to 2004 (72 FR 48402).

Two additional sets of Federal regulations are relevant to the tiger: the Captive Bred Wildlife (CBW) registration program under the Act and the Captive Wildlife Safety Act (CWSA). The Act and implementing regulations prohibit any person subject to the jurisdiction of the United States from conducting certain activities with endangered or threatened species of fish, wildlife, or plants. These activities include import, export, take, and interstate or foreign commerce. The Secretary of the Interior may permit such activities, under such terms and conditions as he will prescribe, for scientific purposes or to enhance the propagation or survival of the affected species, provided these activities are consistent with the Act (Service 2003, p. 1). Since 1976, the Service has been striving to achieve an appropriate degree of control over prohibited activities involving living wildlife of nonnative species born in captivity in the United States. The regulations that we published in 1998 (63 FR 48634, September 11, 1998) reflect the Service's interpretation of the appropriate degree of control for these species of captive bred wildlife.

The Service has determined that, under the CBW registration system, activities can be conducted without first registering with the Service for “generic” or inter-subspecific crossed tigers (63 FR 48634, September 11, 1998). The Service defines “generic” or inter-subspecific crossed tigers as “Panthera tigris (i.e., specimens not identified as or identifiable as members of the Bengal, Sumatran, Siberian, or Indochinese subspecies (Panthera tigris tigris, P.t. sumatrae, P.t. altaica, and P.t. corbetti, respectively))” provided that 50 CFR 17.21(g)(6) applies. This determination reiterates the Service's philosophy on its approach to captive versus wild populations: “The Service considers the purpose of the Act to be best served by conserving species in the wild along with their ecosystems. Populations of species in captivity are, in large degree, removed from their natural ecosystems and have a role in survival of the species only to the extent that they maintain genetic integrity and offer the potential of restocking natural ecosystems where the species has become depleted or no longer occurs” (63 FR 48635, September 11, 1998). CBW regulations were amended and became effective on October 13, 1998. They apply to tigers that are identified as, or identifiable as, one of the four subspecies. If used in interstate commerce, these tigers must either be registered with the Service through CBW, or permitted via an enhancement of survival permit (section 10(a)(1)(A) of the Act). In addition, the majority of CBW registered tigers are managed in the United States under the Species Survival Plan Program of the Association of Zoos and Aquariums (AZA; see AZA 2008; Minnesota Zoo 2008).

The CWSA amended the Lacey Act and addressed concerns about public safety and the growing number of big cats in private hands in the United States. Under the CWSA, several prohibitions apply to the tiger, as well as several other species generically identified by the Service as “big cats.” The CWSA regulations (72 FR 45938, August 16, 2007) apply to tigers at the species level, as well as subspecies and hybrids (Service 2007, pp. 1-2). Unless you are exempt, you may not move live big cats, including tigers, across State lines or the U.S. border. Prohibited activities include: Import into or export out of the United States; interstate sale and purchase; transport across State lines; and receiving or acquiring big cats if the animals are moved from one State to another (72 FR 45938, August 16, 2007). These prohibitions became effective on September 17, 2007.

In order to be exempt from CWSA prohibitions, you must be licensed by the Animal and Plant Health Inspection Service of the U.S. Department of Agriculture (USDA) under the Animal Welfare Act; a State college, university, or agency; a State-licensed wildlife rehabilitator; a State-licensed veterinarian; or an accredited wildlife sanctuary that meets certain criteria. License holders typically include zoos, circuses, and those who conduct research with wild animals.

Panthera tigris is also a beneficiary of the Rhinoceros and Tiger Conservation Act of 1994 (16 U.S.C. 5306), as amended. This Act, in part, authorizes the Secretary of the Interior to assist in the conservation of rhinoceros and tigers by supporting the conservation programs of nations whose activities directly or indirectly affect these taxa (Service 2004, p. 11; Service 2008a,b). In addition, this Act directs the Secretary of the Interior to convene an advisory group of individuals to assist in carrying out the Act. In 1998, this Act was amended to prohibit the sale, importation, or exportation of products labeled or advertised as rhinoceros or tiger products (Pub. L. 105-312; 16 U.S.C. 5305a). As amended, the law states that a person shall not sell, import, or export, or attempt to sell, import, or export, any product, item, or substance intended for human consumption or application containing, or labeled or advertised as containing, any substance derived from any species of rhinoceros or tiger (16 U.S.C. 5305a(a)).

Species Information

The tiger is the largest species of the cat family (Felidae) and is the top predator throughout its range (Mazák 1981, pp. 1-2; Cat Specialist Group 2002; ITIS 2008). Tigers are quite muscular and have a large head. The teeth are very strong. Adults are usually about 2.2-3.0 meters (m) in length (7.2-9.8 feet (ft)). Females are usually smaller than males. Body weights of 258.2-306.5 kilograms (kg) (569-675 pounds (lbs)) have been reported, but males typically weigh about 170 kg (375 lbs), while females weigh about 113 kg (249 lbs).

Tigers originally ranged from eastern Turkey to southeastern Siberia and the Malay Peninsula, Sumatra, Java, and Bali (Mazák 1981, pp. 2-3). The current geographic distribution is greatly reduced, and tigers have been exterminated from most of their former geographic range. At the end of the 19th century, there may have been as many as 100,000 tigers in the wild (Nowak 1999, p. 828). Currently, tiger populations are smaller, increasingly more isolated, and progressively more fragmented than before. Based on estimates by species experts, extant tiger populations total about 7,700 individuals in the wild and occupy only about 7 percent of their original range in areas from India to Vietnam, as well as in Sumatra, China, and the Russian Far East (Dinerstein et al. 2006, p. ii). Tigers primarily occur in forested areas, but can also be found in grasslands and savannahs (Nowak 1999, p. 825). These areas increasingly are being converted to agricultural uses, leading to conflicts between tigers and farmers. Cover, water, and sufficient prey are the main habitat requirements of tigers (Mazák 1981, p. 4).

Females typically give birth to about one to four cubs per litter (Mazák 1981, p. 4). New litters are born about every 2-4 years after the young of the previous litter have become independent of the mother and have left the family unit (Nowak 1999, p. 827).

Except for the mating season, tigers are usually solitary. Some tigers are territorial, while others share home ranges. Shared home ranges are often occupied by litter mates or members of extended tiger families (Nowak 1999, p. 827). Territory sizes usually range from about 200 to 1,000 square kilometers (km²) (77-386 square miles (mi²)) in size, depending on habitat quality and prey availability.

Tigers, which hunt primarily at night, mainly prey upon larger mammals, especially ungulates (Nowak 1999, p. 826). Domestic livestock, such as cattle, water buffalos, goats, and dogs, are also frequently taken by tigers (Mazák 1981, p. 5). These attacks are a major cause of conflicts with local farmers. Tigers also attack and kill humans, especially in India (Nowak 1999, p. 827; Nowell and Jackson 1996, p. 57).

Conservation threats to tigers include being poisoned, shot, trapped, and snared, as well as loss or modification of habitat and reductions to natural prey populations (World Wildlife Fund International undated, p. 1). These threats are widespread and ongoing (e.g., Environmental Investigation Agency 1998, 2006a, 2006b; Johnson et al. 2006, pp. 7-8; Poole and Johnson 2008; Ng and Nemora 2007, pp. vi-vii; Shepherd and Magnus 2004, pp. vi-vii).

Recent reports suggest that natural mortality of tigers is being replaced by mortality due to man. Historically, bears, wild pigs, and other large mammals were major predators of tigers; today, tigers increasingly are being killed by human hunters (Mazák 1981, p. 5). As a result, tiger populations in most areas are greatly reduced due to human activities.

International trade in tigers has been a source of concern to conservationists and species experts for many years. According to Inskipp and Wells (1979, p. 40), big cats already showed signs of becoming rare in the 1960s. Three tigers were imported into the United States in 1968 (Jones 1970, p. 19). During 1968-1972, 17 living tigers were imported into the United States (McMahan 1986, p. 468). Following the ratification of CITES in the United States, during 1979-1980, a total of 103 live tigers were imported according to Service records. Overall, a total of 317 live Appendix I tigers were reported in international trade during 1979-1980 (McMahan 1986, p. 471).

More recently in the United States, more than 130 live tigers were either imported, exported, or re-exported legally during 2004-2006 (purpose of transaction: zoos, circuses and traveling exhibitions, and breeding in captivity; Service 2008c). About 6,000 illegally obtained items during that same time period were either abandoned at the port of entry or seized by U.S. law enforcement officials (primarily skins, teeth, trophies, and articles used for traditional medicine). At the international level during 1976-1990, the average annual trade in tigers reported to CITES was about 16 individuals per year (primarily trophies; Nowell and Jackson 1996, p. 226). Elsewhere, reports about India (Environmental Investigation Agency 1998, 2006a, 2006b; Wright 2007) and Indonesia (Sumatra Island; Ng and Nemora 2007; Shepherd and Magnus 2004) document an ongoing illegal commercial and recreational trade in those countries. Wright (2007, p. 10) reported 34-81 tigers poached per year in India during 1998-2006. Poaching and killing tigers to protect livestock are also reported rangewide (Nowell and Jackson 1996, pp. 180-195).

Little is known about the nature or extent of disease in wild tiger populations. According to Nowell and Jackson (1996, p. 58), tiger mortality during the second year of life is 17 percent, while infanticide is overall the most common cause of cub death. Furthermore, Nowell and Jackson (1996, pp. 64-65) suggest that natural mortality is being replaced with mortality due to human activities.

Tigers can live up to about 15 years of age in the wild and up to 26 years of age in captivity (Nowell and Jackson 1996, p. 58). Habitat loss and reductions in the size of tiger prey populations increasingly are becoming significant determinants in tiger population sizes and geographic distribution. According to species experts, large tracts of contiguous habitat are essential to assure the survival of wild tigers on a long-term basis; small, isolated reserves cannot be relied upon to conserve the species (Nowell and Jackson 1996, p. 65).

Tigers readily breed in captivity and often are included in the exhibitions of larger zoos (Mazák 1981, p. 6). The Leipzig Zoo has maintained the International Tiger Studbook since 1973 (Müller 2004), while the AZA coordinates the Species Survival Plan Program (AZA 2008; Minnesota Zoo 2008). Species experts have recently proposed designs for landscape conservation efforts (Wikramanayake et al. 2004), as well as conservation and recovery priorities for wild tigers (Dinerstein et al. 2006; Sanderson et al. 2006).

There is a relatively large population of tigers in captivity. According to Werner (2005, p. 24), there are approximately 264 tigers in AZA-registered institutions in the United States, 1,179 in assorted wildlife sanctuaries, 2,120 in USDA-registered institutions, and 1,120 in private ownership (approximate U.S. total = 4,692 tigers). An additional 5,000 tigers have been reported in captivity in China at sites popularly identified as tiger farms, with an annual production of 800 individuals (CITES 2007b, p. 4). The long-term status of these captive tigers, however, has been questioned by some as the Government of China is studying and assessing a suggestion to use the bones of captive specimens for domestic purposes in traditional Chinese medicine (CITES 2007c, p. 7; CITES 2007d, p. 7). While domestic trade in tiger bone has been prohibited in China since 1993, traditional Chinese medicine—based in part on the use of tiger bones—continues (Shepherd and Magnus 2004; Nowell 2007; Ng and Nemora 2007). Fewer than 1,000 tigers occur in public zoos in Europe and Japan (Ron Tillson, cited by Morell 2007, p. 1312), while data for the quantity of tigers in private collections in Europe and Japan are not readily available.

Evaluation of Information for This Finding

Section 4 of the Act (16 U.S.C. 1533), and implementing regulations at 50 CFR part 424, set forth the procedures for adding a species to, or removing a species from, the Federal Lists of Endangered and Threatened Wildlife and Plants. A species may be determined to be an endangered or threatened species due to one or more of the five factors described in section 4(a)(1) of the Act:

(A) Present or threatened destruction, modification, or curtailment of its habitat or range;

(B) Overutilization for commercial, recreational, scientific, or educational purposes;

(C) Disease or predation;

(D) The inadequacy of existing regulatory mechanisms; or

(E) Other natural or manmade factors affecting its continued existence.

We must consider these same five factors in delisting a species. We may delist a species according to 50 CFR 424.11(d) if the best available scientific or commercial data indicate that the species is neither endangered nor threatened for the following reasons:

(1) The species is extinct;

(2) The species has recovered and is no longer endangered or threatened; or

(3) The original scientific data used at the time the species was classified were in error.

In making this 90-day finding, we evaluated whether information regarding the threats to the tiger, as presented in the petition and other information available in our files, is substantial, thereby indicating that the petitioned action may be warranted. Our evaluation of this information is presented below.

A. The Present or Threatened Destruction, Modification, or Curtailment of Its Habitat or Range

Information Provided in the Petition

The petitioner provides no information that suggests that threats to the habitat or range of the tiger have been reduced or eliminated.

Evaluation of Information Provided in the Petition and Available in Service Files

The information in Service files as described in the Species Information section (above) suggests that, rather than improving, the habitat or range of the tiger is deteriorating in quantity and quality throughout its range. Given the lack of information in the petition addressing the threats to habitat or range, and information in our files that indicates these threats are ongoing and increasing, we have determined that the information provided in the petition, as well as other information in our files, does not present substantial scientific or commercial information indicating that the petitioned action may be warranted due to the reduction or elimination of threats to the tiger's habitat or range.

B. Overutilization for Commercial, Recreational, Scientific, or Educational Purposes

Information Provided in the Petition

The petitioner provides copies of documents that indicate that large numbers of tigers are held in captivity in the United States. According to the petition, up to 10,000 tigers are being maintained as pets in the United States. In addition, the petitioner suggests that the total population of tigers in the world may be approximately 20,000 individuals, including those maintained as pets by private individuals and those tigers in zoos or wildlife sanctuaries. The petitioner asserts that, given the number of individuals in the wild and in captivity, the species is no longer at risk of extinction.

Evaluation of Information Provided in the Petition and Available in Service Files

Although the petitioner acknowledges the number of tigers in the United States held as pets, in zoos, and in sanctuaries, the petition does not address the threat of overutilization of tigers for commercial, recreational, scientific, or educational purposes, or whether these threats have been reduced or eliminated. As described in the Species Information section, the information in Service files indicates that tigers have been and continue to be widely used for commercial, recreation, scientific, or educational purposes. Although the Service is not aware of any scientific or commercial information indicating overutilization of tigers for scientific or educational purposes, information in Service files indicates that overutilization for commercial and recreational purposes is ongoing and widespread.

Given that the petition does not address the threat of overutilization of tigers, and information in our files indicates this threat is ongoing and widespread, we find that the information provided in the petition, as well as other information in our files, does not present substantial scientific or commercial information indicating that the petitioned action may be warranted due to the reduction or elimination of the threat of overutilization of the tiger for commercial, recreational, scientific, or educational purposes.

C. Disease and Predation

Information Provided in the Petition

The petitioner does not provide any information about tiger disease or predation.

Evaluation of Information Provided in the Petition and Available in Service Files

As described in the Species Information section, among the documents available in Service files, little mention is made of disease or predation as a conservation factor for tigers. The Service is not aware of any scientific or commercial information that indicates that the conservation status of the tiger with respect to disease or predation has improved. It does not appear, however, that disease or predation are important factors that negatively affect the conservation status of the tiger at this time. Because the petitioner provided no information about tiger disease or predation, and information in our files appears to indicate that disease or predation are not important factors negatively affecting the conservation status of the species, the information available to us does not support or oppose this petition to delist the species. As such, we have determined that the information provided in the petition, as well as other information in our files, does not present substantial scientific or commercial information indicating that the petitioned action may be warranted due to the reduction or elimination of tiger disease or predation.

D. The Inadequacy of Existing Regulatory Mechanisms

Information Provided in the Petition

The petitioner does not provide any information that suggests that existing regulatory mechanisms have resulted in a reduction or elimination of threats to the tiger. Several of the supporting documents presented by the petitioner generally describe that many tigers are maintained as pets, but the petition does not indicate how this information relates to delisting the tiger under this factor.

Evaluation of Information Provided in the Petition and Available in Service Files

Information in the Service's files, as described in the Species Information section, consists of several reports that make special mention of the positive conservation benefits to tigers as a result of their being listed under Appendix I of CITES. As a result of CITES and the associated regulatory mechanisms, according to these reports, international trade of live tigers, as well as tiger parts, products, and derivatives for commercial purposes has decreased, but persists (Environmental Investigation Agency 2006a; Klenzendorf undated; Ng and Nemora 2007; Nowell 2007; Poole and Johnson 2008; Shepherd and Magnus 2004; Wright 2007).

Within the context of CITES, the CITES Secretariat and the Standing Committee have compiled information on the status of wild and captive tiger populations, as well as the implementation of CITES decisions and resolutions by importing, exporting, and re-exporting countries (e.g., CITES 2007b,c,d; CITES 2008a,b,c,d). Furthermore, the enforcement of CITES prohibitions relating to international trade of tigers has been made more effective through the adoption and implementation of several CITES resolutions that call for stricter controls of international trade (CITES 1997, 2000, 2002a, 2002b, 2007a).

While CITES regulatory mechanisms may have positive conservation impacts on tigers, a number of inherent limitations have been identified that may reduce the usefulness of these mechanisms at the international level as a conservation tool for tigers. According to Santagelo (2005, p. 119), CITES has several major limitations related to enforcement, permits, and reporting. The inability of CITES to remedy implementation failures at the national level, however, perhaps is the most serious weakness of this regulatory mechanism and directly affects conservation and research of the tigers. The issue of tiger farming within the context of CITES, especially in China if the use of tiger bones from captive specimens is legalized, has been identified as a potentially serious regulatory problem (Santagelo 2005, p. 126).

While several international regulatory mechanisms affect the conservation status of tigers, serious and specific threats to the species at the national level remain. Several reports suggest that appropriate regulatory mechanisms continue to be lacking in many range countries (Tiger Task Force 2005, pp. vi-x; Environmental Investigation Agency 1998, 2006a). Poaching occurs throughout the range of the tiger. The seizure or abandonment mentioned above of about 6,000 items (tiger parts, products, or derivatives) during 2004-2006 by U.S. law enforcement officials at ports of entry also underscores the inadequacy of existing regulatory mechanisms in several countries that export or re-export tigers or tiger parts, products, or derivatives.

Several reports have suggested potential problems associated with the possession or private ownership of tigers in captivity in the United States. According to these reports, the exact number of tigers in captivity is unknown; breeding and husbandry controls vary from State to State; and the disposal of tiger parts, products, and derivatives is not monitored at the Federal level (Williamson and Henry 2008, pp. 1-4; World Wildlife Fund-US 2008). This information, according to these reports, is critical to the effective management of tigers in the United States.

Captive tigers in the United States are regulated under the CBW and CWSA. Regulations adopted under the CBW reflect a determination by the Service to focus Federal activities on wild specimens where conservation benefits will be most effective (63 FR 48634, September 11, 1998). Regulations adopted under the CWSA address big cats, including tigers, and public safety issues in the United States (72 FR 45938, August 16, 2007; Service 2007). It is the Service's determination that these two regulatory mechanisms provide an adequate level of control of captive tigers in the United States despite the potential problems mentioned above. Beyond U.S. borders, the Service is not aware of any scientific or commercial information that indicates that existing regulatory mechanisms are adequate for all or most of the countries where tigers either occur in the wild or are maintained in captivity.

In summary, we have determined that the information provided in the petition, as well as other information in our files, does not present substantial scientific or commercial information indicating that the petitioned action may be warranted due to the reduction or elimination of the threat of inadequacy of existing regulatory mechanisms with respect to the tiger.

E. Other Natural or Manmade Factors Affecting Continued Existence

Information Provided in the Petition

The petitioner does not provide any information about other natural or manmade factors affecting the continued existence of the tiger.

Evaluation of Information Provided in the Petition and Available in Service Files

The information in Service files, as described in the Species Information section above, includes several reports by internationally recognized tiger experts. These reports cite the importance of reducing or eliminating poaching, reversing habitat conversion and fragmentation, stopping the loss of the tiger prey base (especially ungulates taken by subsistence hunters), and eliminating human-tiger conflicts due to livestock grazing (Nowell and Jackson 1996, pp. 64-65; Species Programme 2002; Dinerstein et al. 2006, pp. ii-iv; Johnson et al. 2005; Johnson et al. 2006; Sanderson et al. 2006, pp. iii-vi). Environmental Investigation Agency (2006a, p. 20) specifically cites the recent example of poisons being placed in the carcasses of dead livestock to kill tigers returning to the site of a kill. The Service is not aware of any scientific or commercial information suggesting that the conservation status of tigers in any range country has undergone significant improvement. The Service is aware of improvements in husbandry techniques for captive tiger populations in several zoos and wildlife sanctuaries (Müller 2004), but it is not clear if privately held tigers are also benefitting from those changes.

In conclusion, based on the documents available to the Service, information about other natural or manmade factors affecting the continued existence of the tiger does not support this petition to delist the species.

Finding

The key element of the petition to delist the tiger is an assertion by the petitioner that the tiger population has grown exponentially over the past 35 years (since listing under the Act) and that there are approximately 20,000 tigers in the wild or in zoos and sanctuaries worldwide. Information about tigers available to the Service and summarized above suggests that over the past century both the total population size and the extent of the geographic range of the species in the wild are much reduced from previous levels. Tiger habitat continues to be converted to agricultural purposes, while remaining patches of tiger habitat increasingly are becoming fragmented and isolated from each other. This loss directly affects tigers, as well as the prey on which they depend. Poaching and illegal trade of tigers, domestic as well as international, especially for traditional Chinese medicine, continue despite increased national and CITES controls (Bolze et al. 1998, pp. 2-3; Henry 2004, pp. 12-13; Nowell and Ling 2007, pp. v-vi).

The petitioner does not provide information related to the relevant factors that the Service considers when reviewing proposals to list or delist a species, including the factors provided under subsection 4(a)(1) of the Act. The information in Service files, including several rangewide reports by internationally recognized tiger experts, numerous national reports, and trade summaries involving the United States and other countries, suggest that conservation threats to the tiger remain widespread and ongoing. While there may be some success stories in terms of tiger conservation (e.g., Phoenix Fund 2001, 2004; Save the Tiger Fund 2005, 2007; Gratwicke et al. 2007; World Wildlife Fund International undated), in general the conservation status of the species throughout its range is deteriorating. In conclusion, the data in our files do not support the petitioned action.

We have reviewed the petition, as well as the literature cited in the petition, and have evaluated that information in relation to information available to the Service. Based on this review and evaluation, we find that the petition does not present substantial scientific or commercial information to indicate that the delisting of the tiger may be warranted at this time. Although we will not commence a status review in response to this petition, we will continue to monitor the tiger's population status and trends, potential threats to the tiger, and ongoing management actions that might be important with regard to the conservation of the tiger across its range. We encourage interested parties to continue to gather data that will assist with the conservation of the species. If you wish to provide information regarding the tiger, you may submit your information or materials to the Chief, Branch of Foreign Species, Endangered Species Program (see ADDRESSES).

References Cited

A complete list of all references cited in this document is available, upon request, from the Branch of Foreign Species, Endangered Species Program (see FOR FURTHER INFORMATION CONTACT).

Author

The primary author of this notice is the Staff of the Branch of Foreign Species, Endangered Species Program, U.S. Fish and Wildlife Service (see ADDRESSES).

Authority

The authority for this action is the Endangered Species Act of 1973, as amended (16 U.S.C. 1531 et seq.).

Dated: August 3, 2010.
Wendi Weber,
Acting Director, U.S. Fish and Wildlife Service.

[FR Doc. 2010-19895 Filed 8-11-10; 8:45 am]

BILLING CODE 4310-55-P